DEPARTMENT OF TRANSPORTATION

Federal Aviation Administration

Aviation Rulemaking Advisory Committee Meeting

AGENCY: Federal Aviation Administration (FAA), DOT.

ACTION: Notice of public meeting.

SUMMARY: This notice announces a public meeting of the FAA's Aviation Rulemaking Advisory Committee to discuss rotocraft issues.

DATES: The meeting will be held on Thursday, July 18, 2002, at 1 p.m. Central Standard Time (CST).

ADDRESSES: Persons in the Forth Worth, Texas area can participate in the teleconference in the FAA Regional Office, ASW-100, Workroom E, 4th Floor, 2601 Meacham Blvd., Fort Worth, Texas, 76137. Those people in the Washington DC metropolitan area can come to the FAA headquarters building, 800 Independence Ave., Conference Room in Room 810, Washington DC, to access to teleconference at 2 p.m. Eastern Standard Time (EST). Persons interested in participating in the teleconference in the FAA headquarters building please contact Angela Anderson at telephone (202) 267-9681, e-mail angela.anderson@faa.gov.

FOR FURTHER INFORMATION CONTACT: Mary Ann Phillips, FAA, Rotocraft Directorate, ASW-111, 2601 Meacham Blvd., Fort Worth, TX 76137, telephone (817) 222-5124, e-mail mary.ann.phillips@faa.gov.

SUPPLEMENTARY INFORMATION: The referenced meeting is announced pursuant to section 10(a)(2) of the Federal Advisory Committee Act (Pub. L. 92-463; 5 U.S.C. App. 11). The agenda will include discussion of name clarification for the Fatigue Evaluation of Metallic Rotorcraft Structure Working Group and the presentation of the following two notices of proposed rulemaking (NPRMs) to request legal and economic drafting support:

• Damage Tolerance and Fatigue Evaluation of Metallic Rotorcraft Structure

• Damage Tolerance and Fatigue Evaluation of Composite Rotorcraft Structure

This meeting was previously scheduled to occur on June 25, 2002. However, due to a telecommunications equipment failure, that meeting was cancelled and is now being rescheduled. Attendance is open to the public but will limited to the space available on the telephone conferencing system. The telephone number for participating in the teleconference will be available by contracting the person listed under the heading FOR FURTHER INFORMATION CONTACT.

The public must make arrangements to present oral statements at the meeting. Written statements may be presented to the committee at any time by providing 16 copies to the Assistant Chair at least 7 days prior to the meeting. Copies of the NPRMs that will be presented may be obtained by contacting Mary Ann Phillips at (817) 222-5124 or by emailing her at: mary.ann.phillis@faa.gov.

If you are in need as assistance or require a reasonable accommodation for the meeting, please contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Washington DC, on June 26, 2002.
Anthony F. Fazio,
Executive Director, Aviation Rulemaking Advisory Committee.

[FR Doc. 02-16646 Filed 7-1-02; 8:45 am]

BILLING CODE 4910-13-M